DEPARTMENT OF ENERGY

Federal Energy Regulatory Commission

[Docket No. PF09-15-000]

Dominion Transmission, Inc.; Notice of Public Scoping Meetings for the Appalachian Gateway Project

January 8, 2010.

The staff of the Federal Energy Regulatory Commission (FERC or Commission) will prepare an environmental assessment (EA) that will discuss the environmental impacts of the Appalachian Gateway Project involving construction and operation of facilities by Dominion Transmission, Inc. (DTI) in northeastern West Virginia (WV) and southwestern Pennsylvania (PA). The EA will be used by the Commission in its decision-making process to determine whether the project is in the public convenience and necessity.

This notice announces the dates and locations of the scoping meetings FERC staff will be holding to gather input from the public and interested agencies on the project. Your input will help the Commission staff determine what issues need to be evaluated in the EA. You are invited to attend the public scoping meetings that have been scheduled as follows:

Wednesday, January 20, 2010 at 6 p.m. (EST), Youghiogheny Ballroom, 100 Riverside Drive, West Newton, PA.

Thursday, January 21, 2010 at 6 p.m.(EST), Waynesburg Central High School—Auditorium, 30 Zimmerman Drive, Waynesburg, PA.

Wednesday, January 27, 2010 at 6 p.m. (EST), Valley High School—Auditorium, One Lumberjack Lane, Pine Grove, WV.

Thursday, January 28, 2010 at 6 PM (EST), Riverside High School—Auditorium, #1 Warrier Way, Belle, WV.

This notice is being sent to the Commission's current environmental mailing for this project, which includes affected landowners; federal, state, and local government representatives and agencies; elected officials; environmental and public interest groups; Native American Tribes; other interested parties; and local libraries and newspapers. State and local government representatives are asked to notify their constituents of this planned project and encourage them to comment on their areas of concern.

Summary of the Planned Project

DTI plans to construct and operate approximately 110 miles of 20-, 24-, and 30-inch diameter natural gas pipeline and associated aboveground facilities in northeastern West Virginia and southwestern Pennsylvania. According to DTI, its project would provide about 484,260 dekatherms of natural gas per day of firm transportation services from increasing gas production in the Appalachian region of West Virginia and Pennsylvania to the east coast markets.

The Appalachian Gateway Project would consist of the following facilities:

• Approximately 43.1 miles of 30-inch diameter pipeline in Marshall County, WV and Greene County, PA;

• Approximately 54.2 miles of 24-inch diameter pipeline in Greene, Washington, Allegheny, and Westmoreland Counties, PA;

• Approximately 5.2 miles of 20-inch diameter pipeline loop in Kanawha County, WV and 6 miles of 24-inch diameter pipeline loop in Greene County, PA; ¹

¹ A pipeline loop is constructed parallel to an existing pipeline to increase capacity.

• A total of approximately 1.5 miles of various diameter discharge and suction pipelines to serve the Lewis-Wetzel Compressor Station (Wetzel County, WV) and the Morrison Compressor Station (Harrison County, WV);

• Two new compressor stations on new sites: Burch Ridge Station (Marshall County, WV) with approximately 6,130 horsepower (HP) and Morrison Station (Harrison County, WV) with approximately 1,775 HP;

• Two new compressor stations on existing sites: Chelyan Station (Kanawha County, WV) with approximately 4,735 HP and Lewis Wetzel Station (Wetzel County, WV) with approximately 3,550 HP;

• A new metering and regulation facility at the existing Oakford Compressor Station in Westmoreland County, PA; and

• Upgrades and minor additions to other existing facilities in Wyoming, Doddridge, McDowell, and Barbour Counties, WV.

Additional Information

Additional information about the project is available from the Commission's Office of External Affairs, at 1-866-208-FERC or on the FERC Web site (http://www.ferc.gov) using the eLibrary link. Click on the eLibrary link, click on “General Search” and enter the docket number, excluding the last three digits, in the Docket Number field (PF09-15). Be sure you have selected an appropriate date range. For assistance, please contact FERC Online Support at FercOnlineSupport@ferc.gov or toll free at 1-866-208-3676, or for TTY, contact 202-502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries and direct links to the documents. Go to http://www.ferc.gov/esubscribenow.htm.

Finally, any additional public meetings or site visits will be posted on the Commission's calendar located at http://www.ferc.gov/EventCalendar/EventsList.aspx along with other related information.

Kimberly D. Bose,
Secretary.

[FR Doc. 2010-916 Filed 1-19-10; 8:45 am]

BILLING CODE 6717-01-P